DEPARMENT OF THE INTERIOR

Bureau of Land Management

[WY-920-1220-BY; WYW 34993]

Public Land Order No. 7612; Extension of Public Land Order No. 6578; Wyoming

AGENCY: Bureau of Land Management, Interior.

ACTION: Public land order.

SUMMARY: This order extends Public Land Order No. 6578 for an additional 20-year period. This extension is necessary to continue the protection of the Castle Gardens Recreation Area in Washakie County.

DATES: Effective November 23, 2004.

FOR FURTHER INFORMATION CONTACT: Janet Booth, BLM Wyoming State Office, 5353 N. Yellowstone Road, P.O. Box 1828, Cheyenne, Wyoming 82003, 307-775-6124.

Order

By virtue of the authority vested in the Secretary of the Interior by Section 204 of the Federal Land Policy and Management Act of 1976, 43 U.S.C. 1714 (2000), it is ordered as follows:

1. Public Land Order No. 6578 (49 FR 46144, November 23, 1984), which withdrew 110 acres of public land from surface entry and mining to protect the Bureau of Land Management Castle Gardens Recreation Area, is hereby extended for an additional 20-year period.

2. Public Land Order No. 6578 will expire on November 22, 2024, unless, as a result of a review conducted prior to the expiration date pursuant to Section 204(f) of the Federal Land Policy and Management Act of 1976, 43 U.S.C. 1714(f), the Secretary determines that the withdrawal shall be extended.

Dated: August 2, 2004.
Rebecca W. Watson,
Assistant Secretary—Land and Minerals Management.

[FR Doc. 04-18838 Filed 8-17-04; 8:45 am]

BILLING CODE 4310-22-P